DEPARTMENT OF HOMELAND SECURITY

Coast Guard

46 CFR Parts 1, 10, 11, 12, 13, 14

[Docket No. USCG-2004-17914]

RIN 1625-AA16

Implementation of the Amendments to the International Convention on Standards of Training, Certification and Watchkeeping for Seafarers, 1978, and Changes to Domestic Endorsements

AGENCY: Coast Guard, DHS.

ACTION: Notice of public meetings; request for comments; Correction.

SUMMARY: On August 2, 2011 (76 FR 46217), the Coast Guard published a notice of public meetings and request for comments on a supplemental notice of proposed rulemaking (SNPRM) entitled “Implementation of the Amendments to the International Convention on Standards of Training, Certification and Watchkeeping for Seafarers, 1978, and Changes to Domestic Endorsements.” The incorrect publication date of the SNPRM was cited. This notice corrects that error.

FOR FURTHER INFORMATION CONTACT: Mr. Rogers Henderson, Maritime Personnel Qualification Division, U.S. Coast Guard, telephone 202-372-1408, e-mail Rogers.W.Henderson@uscg.mil. If you have questions on viewing or submitting material to the docket, call Ms. Renee V. Wright, Program Manager, Docket Operations, telephone 202-366-9826.

SUPPLEMENTARY INFORMATION: On August 2, 2011 (76 FR 46217), the Coast Guard published a notice of public meetings and request for comments on a supplemental notice of proposed rulemaking (SNPRM) entitled “Implementation of the Amendments to the International Convention on Standards of Training, Certification and Watchkeeping for Seafarers, 1978, and Changes to Domestic Endorsements.” Subsequent to the publication of that notice, the Coast Guard discovered that the publication date of the SNPRM on page 46217 was incorrect.

Correction

In the notice (FR Doc. 2011-19459) published on August 2, 2011 (76 FR 46217) make the following correction. On page 46217, in the first sentence of the second paragraph in the third column, the date should read “August 1, 2011” instead of “August 1, 2001.”

Dated: August 2, 2011.
Erin Ledford,
LCDR, Deputy, Office of Regulations and Administrative Law.

[FR Doc. 2011-19985 Filed 8-5-11; 8:45 am]

BILLING CODE 9110-04-P